SECURITIES AND EXCHANGE COMMISSION

Submission for OMB Review; Comment Request

Upon written request, copies available from: Securities and Exchange Commission, Office of Investor Education and Advocacy, Washington, DC 20549-0213.

Extension: Form 20-F; OMB Control No. 3235-0288; SEC File No. 270-156.

Notice is hereby given that pursuant to the Paperwork Reduction Act of 1995 (44 U.S.C. 3501 et seq.) the Securities and Exchange Commission (“Commission”) has submitted to the Office of Management and Budget a request for extension of the previously approved collection of information discussed below.

Form 20-F (17 CFR 249.220f) is used by foreign private issuers to either register a class of securities under the Securities Exchange Act of 1934 pursuant to section 12(b) or 12(g) (15 U.S.C. 78l(b) or 78l(g)) or to satisfy their annual report obligation pursuant to section 13 or 15(d) of the Exchange Act (15 U.S.C. 78m and 78o(d)). The information collected is intended to enable investors in foreign private issuers to make informed investment decisions. Form 20-F takes approximately 2,611 hours per response to prepare and is filed by 942 foreign private issuers annually. We estimate that 25% of the 2,611 hours per response (652.75 hours) is prepared by the issuer for an annual reporting burden of 614,891 hours (652.75 hours per response × 942 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to nfraser@omb.eop.gov; and (ii) Lewis W. Walker, Acting Director/CIO, Securities and Exchange Commission, C/O Shirley Martinson, 6432 General Green Way, Alexandria, VA 22312; or send an e-mail to: PRA_Mailbox@sec.gov. Comments must be submitted to OMB within 30 days of this notice.

December 11, 2008.
Florence E. Harmon,
Deputy Secretary.

[FR Doc. E8-29968 Filed 12-17-08; 8:45 am]

BILLING CODE 8011-01-P